DEPARTMENT OF THE INTERIOR

National Park Service

[NPS-WASO-NRNHL-DTS#-40096; PPWOCRADI0, PCU00RP14.R50000]

National Register of Historic Places; Notification of Pending Nominations and Related Actions

AGENCY: National Park Service, Interior.

ACTION: Notice.

SUMMARY: The National Park Service is soliciting electronic comments on the significance of properties nominated before April 19, 2025, for listing or related actions in the National Register of Historic Places.

DATES: Comments should be submitted electronically by May 19, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before April 19, 2025. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

INDIANA

Allen County

Saint Joseph's Nurses Home, 835 Van Buren Street, Fort Wayne, SG100011865

Kirkwood Park Historic District, (Residential Planning and Development in Indiana, 1940-1973 MPS), Bounded by Coliseum Boulevard on the north, Glenhurst Avenue on the east, Springfield Avenue on the south, and Crescent Avenue on the west, Fort Wayne, MP100011866

Carroll County

Meridian Line Road Iron Truss Bridge, Meridian Line Road over Deer Creek, Camden, SG100011870

Clark County

Francis Avenue Historic District, (Residential Planning and Development in Indiana, 1940-1973 MPS), Each side of Francis Avenue extending approximately 400 feet west of Bailey Avenue, Clarksville, MP100011860

Victory Court Historic District, (Residential Planning and Development in Indiana, 1940-1973 MPS), East side of Victory Court, a semicircular loop road, Clarksville, MP100011867

Dubois County

Jasper High School Gymnasium, 340 West 6th Street, Jasper, SG100011858

Gibson County

Princeton Courthouse Square Historic District, Roughly bounded by State and Water Streets on the north and south, and Prince and West Streets on the east and west, Princeton, SG100011868

Princeton Westside Historic District, State Street and the north side of Broadway between Hall Street on the east and the former Southern Railroad on the west, Princeton, SG100011869

Lawrence County

Green Hill Cemetery, 1202 18th Street, Bedford, SG100011863

St. Joseph County

St. Adalbert Church Complex, 2505 W Grace St., South Bend, SG100011864

Washington County

Blue River Quaker Settlement Rural Historic District, A corridor roughly lining Quaker Road north of State Road 56 to Trueblood Lane in Washington Township. Salem vicinity, SG100011859

MINNESOTA

Meeker County

Ness Lutheran Church and Cemetery, 24040 580th Avenue, Litchfield, SG100011871

PENNSYLVANIA

Allegheny County

The Hanauer-Rosenberg Residence, 417 Lockhart Street, Pittsburgh, SG100011855

SOUTH CAROLINA

Greenville County

St. Andrew's Episcopal Church, 1002 S Main Street, Greenville, SG100011873

York County

Fort Mill Manufacturing Company Mill No. 2, 104 Williamson Street, Fort Mill, SG100011847

VIRGINIA

Augusta County

Mint Spring Tavern, 1893 Lee Jackson Highway, Staunton vicinity, SG100011862

Virginia Beach INDEPENDENT CITY

Land, Francis, House (Boundary Decrease), 3133 Virginia Beach Blvd., Virginia Beach (Independent City), BC100011852

WASHINGTON

King County

Washington, James W. Jr. & Janie, Home & Studio, 1816 26th Avenue, Seattle, SG100011848

Dr. José Rizal Park, 1007 12th Avenue South, Seattle, SG100011849

Spokane County

Hotel Collins, (Single Room Occupancy Hotels in Central Business District of Spokane MPS), 701-705-1/2 West Second Avenue (202-212 South Wall Street), Spokane, MP100011857

Thurston County

National Guard Armory—Olympia, 515 Eastside Street SE, Olympia, SG100011856

Additional documentation has been received for the following resource(s):

MINNESOTA

Rice County

Rice County Courthouse and Jail (Additional Documentation), (Rice County MRA), 218 3rd St. NW, Faribault, AD82003016

SOUTH CAROLINA

Greenville County

McBride's Office Supply (Additional Documentation), 832 Wade Hampton Blvd., Greenville, AD100010864

TEXAS

Presidio County

Fort D.A. Russell Historic District/Donald Judd Historic District (Additional Documentation), Roughly bounded by Ridge, El Paso, Kelly Sts., US 67 and FM 2810, Marfa, AD06001152

VIRGINIA

Virginia Beach INDEPENDENT CITY

Pembroke Manor (Additional Documentation), E of jct. of Rtes. 627, 647, and U.S. 58, Virginia Beach (Independent City), AD70000887

Land, Francis, House (Additional Documentation), 3133 Virginia Beach Blvd., Virginia Beach (Independent City), AD75002118

Nomination(s) submitted by Federal Preservation Officers:

The State Historic Preservation Officer reviewed the following nomination(s) and responded to the Federal Preservation Officer within 45 days of receipt of the nomination(s) and supports listing the properties in the National Register of Historic Places.

MISSOURI

Callaway County

Robert Newsom Farmstead, Address Restricted, New Bloomfield, SG100011846

Authority: Section 60.13 of 36 CFR part 60.

Sherry A. Frear,
Chief, National Register of Historic Places/National Historic Landmarks Program.

[FR Doc. 2025-07604 Filed 5-1-25; 8:45 am]

BILLING CODE 4312-52-P